Executive Order 13367 of December 21, 2004

United States-Mexico Border Health Commission

By the authority vested in me as President by the Constitution and the laws of the United States of America, including section 1 of the International Organizations Immunities Act (22 U.S.C. 288) (the “Act”), and having found that the United States participates in the United States-Mexico Border Health Commission (USMBHC) pursuant to the United-States Mexico Border Health Commission Act, Public Law 103-400 (22 U.S.C. 290n et seq.), I hereby designate the USMBHC as a public international organization for purposes of the International Organizations Immunities Act. I hereby extend to members and employees of the Mexican Section of the USMBHC the same privileges, exemptions, and immunities as are accorded under similar circumstances to officers and employees, respectively, of foreign governments with regard to the laws regulating entry into and departure from the United States as provided for in section 7(a) of the Act (22 U.S.C. 288d(a)). No other privileges, exemptions, or immunities of the Act are extended under this order.

This designation is not intended to abridge in any respect privileges, exemptions, or immunities that the USMBHC otherwise may have acquired or may acquire by law.

B

THE WHITE HOUSE,

December 21, 2004.

[FR Doc. 04-28404

Filed 12-23-04; 8:45 am]

Billing code 3195-01-P